DEPARTMENT OF JUSTICE

Drug Enforcement Administration

Manufacturer of Controlled Substances; Notice of Registration; Organix, Inc.

By Notice dated August 20, 2013, and published in the Federal Register on August 26, 2013, 78 FR 52801, Organix, Inc., 240 Salem Street, Woburn, Massachusetts 01801, made application to the Drug Enforcement Administration (DEA) to be registered as a bulk manufacturer of the following basic classes of controlled substances:

Drug | Schedule
Marihuana (7360) | I
Tetrahydrocannabinols (7370) | I
Psilocybin (7437) | I
Psilocyn (7438) | I

The company plans to synthesize small quantities of the listed controlled substances to make reference standards which will be distributed to their customers.

No comments or objections have been received. DEA has considered the factors in 21 U.S.C. 823(a), and determined that the registration of Organix, Inc., to manufacture the listed basic classes of controlled substances is consistent with the public interest at this time.

DEA has investigated Organix, Inc., to ensure that the company's registration is consistent with the public interest. The investigation has included inspection and testing of the company's physical security systems, verification of the company's compliance with state and local laws, and a review of the company's background and history. Therefore, pursuant to 21 U.S.C. 823, and in accordance with 21 CFR 1301.33, the above named company is granted registration as a bulk manufacturer of the basic class of controlled substance listed.

Dated: December 31, 2013.
Joseph T. Rannazzisi,
Deputy Assistant Administrator, Office of Diversion Control, Drug Enforcement Administration.

[FR Doc. 2014-00198 Filed 1-9-14; 8:45 am]

BILLING CODE 4410-09-P